DEPARTMENT OF COMMERCE

International Trade Administration

[A-570-848]

Notice of Extension of Time Limit for Preliminary Results of Antidumping Duty New Shipper Reviews: Freshwater Crawfish Tail Meat From the People's Republic of China

AGENCY: Import Administration, International Trade Administration, Department of Commerce

EFFECTIVE DATE: March 16, 2001.

FOR FURTHER INFORMATION CONTACT: Abdelali Elouaradia, Import Administration, International Trade Administration, U.S. Department of Commerce, 14th Street and Constitution Avenue, NW., Washington, DC 20230; telephone: (202) 482-1374.

The Applicable Statute

Unless otherwise indicated, all citations to the Tariff Act of 1930, as amended (the Act) are to the provisions effective January 1, 1995, the effective date of the amendments made to the Act by the Uruguay Round Agreements Act. In addition, unless otherwise indicated, all citations to the Department's regulations are to 19 CFR part 351 (2000).

Background

On September 29, 2000, and in accordance with section 751(a)(2)(B) of the Act and 19 CFR 351.214(c), the Department received timely requests from China Kingdom Import & Export Co., Ltd., Shouzhou Huaxiang Foodstuffs Co., Ltd., Coastal (Jiang Su) Foods Co., Ltd, and Shanghai Taoen International Trading Co., Ltd. for the initiation of new shipper reviews of this antidumping duty order which has a September anniversary month and a March semiannual anniversary month. On November 6, 2000, the Department published its initiation of these new shipper reviews for the period September 1, 1999 through August 31, 2000 (65 FR 66525).

Extension of Time Limits for Preliminary Results

Due to the complexities enumerated in the memorandum from Barbara E. Tillman to Joseph A. Spetrini, dated March 9, 2001, we find that this case is extraordinarily complicated and thus are unable to make a preliminary determination by the current deadline of April 29, 2001. Therefore, in accordance with section 751(a)(2)(B)(iv) of the Act and section 351.214(i)(2) of the Department's regulations, the Department is extending the time period for issuing the preliminary results of these new shipper reviews by 120 days, until no later than August 27, 2001.

Dated: March 9, 2001.
Joseph A. Spetrini,
Deputy Assistant Secretary, AD/CVD Enforcement Group III.

[FR Doc. 01-6597 Filed 3-15-01; 8:45 am]

BILLING CODE 3510-DS-P